POSTAL SERVICE

39 CFR Part 111

Domestic Competitive Products Pricing and Mailing Standards Changes

AGENCY: Postal Service™.

ACTION: Final rule.

SUMMARY: The Postal Service is amending Mailing Standards of the United States Postal Service, Domestic Mail Manual (DMM®), to reflect changes to prices and mailing standards for certain competitive products.

DATES: Effective date: April 26, 2015.

FOR FURTHER INFORMATION CONTACT: Robert Dixon Jr. (202) 268-2308, or Garry Rodriguez (202) 268-7281.

SUPPLEMENTARY INFORMATION: This final rule describes new prices and product features for competitive products, by class of mail, established by the Governors of the United States Postal Service. New prices are available under Docket Number CP2015-33 on the Postal Regulatory Commission's (PRC) Web site at http://www.prc.gov, and also located on the Postal Explorer® Web site at http://pe.usps.com.

The Postal Service will revise the Mailing Standards of the United States Postal Service, Domestic Mail Manual (DMM), to reflect changes to prices and mailing standards for the following competitive products:

• Priority Mail Express®.

• Priority Mail®.

• First-Class Package Service®.

• Parcel Select®.

• Standard Post™.

• Extra Services.

• Return Services.

• Mailer Services.

• Recipient Services.

Competitive product prices and changes are identified by product as follows:

Priority Mail Express

Prices

All Priority Mail Express Retail, Commercial Base™, and Commercial Plus™ prices will remain the same.

Priority Mail

Prices

All Priority Mail Retail, Commercial Base™, and Commercial Plus™ prices will remain the same.

First-Class Package Service

Prices

Overall, First-Class Package Service prices will increase 5.1 percent. The Intelligent Mail® package barcode (IMpb) will continue to provide free USPS Tracking™ and confirmation of delivery with these parcels and the $0.20 per piece fee will continue to be assessed on packages not having an IMpb.

First-Class Package Service Surcharge

The Postal Service will revise the DMM to clarify that unless a parcel is prepared in a 5-digit/scheme container, a surcharge will apply to each irregularly shaped Commercial Base parcel (i.e., rolls, tubes, triangles).

Transfer of Retail First-Class Mail Parcels

First-Class Mail® parcels were recently petitioned for transfer to competitive products and will become part of First-Class Package Service, if approved. Information on the transfer of First-Class Mail parcels can be found in the Domestic Mailing Services Federal Register Notice.

Parcel Select

Prices

Overall, Parcel Select prices will increase an average of 9.4 percent. The average price increase for Parcel Select Destination Entry destination delivery unit (DDU) is 9.2 percent, destination sectional center facility (DSCF) is 6.7 percent, and destination network distribution center (DNDC) is 7.2 percent.

The average price increase for Parcel Select non-destination parcels (NDC, ONDC, and Nonpresort) is 8.7 percent.

The prices for Parcel Select Lightweight™ (PSLW) will increase an average of 9.8 percent.

The IMpb will continue to provide free USPS Tracking and confirmation of delivery with Parcel Select, including PSLW, and the $0.20 per piece fee will continue to be assessed on packages not having an IMpb.

Standard Post

Overall, Standard Post prices will increase an average of 11.4 percent.

Extra Services

Adult Signature Service

Adult Signature Service prices will be increasing. The price for Adult Signature Required will be $5.50 and Adult Signature Restricted Delivery $5.75.

Adult Signature Service Expanded

As a result of the simplification of Extra Services initiative, the eligible classes of mail for Adult Signature Service will be expanded to include First-Class Package Service and Parcel Select Lightweight pieces. Information on the expansion of eligible classes of mail under Adult Signature Services can be found in the Domestic Mailing Services Federal Register Notice.

Return Services

Parcel Return Service

Parcel Return Service (PRS) prices will have an overall price increase of 4.8 percent. Return Network Distribution Center (RNDC) will increase an average of 5.7 percent and Return Sectional Center Facility (RSCF) prices will increase an average of 5.0 percent. Return Delivery Unit (RDU) prices will increase an average of 4.7 percent.

The Parcel Return Service annual permit fee and annual account maintenance fee are increasing. Information on fees can be found in the Domestic Mailing Services Federal Register Notice.

Parcel Return Service—Full Network (PRS—Full Network)

The Postal Service has decided to discontinue Parcel Return Service—Full Network (PRS—Full Network) to simplify product offerings as part of the Return Services simplification. Information on the Return Services simplification initiative can be found in the Domestic Mailing Services Federal Register Notice.

Mailer Services

Premium Forwarding Service

The enrollment fee for Retail and online applications for Premium Forwarding Service ® (PFS®) will be increasing. The enrollment fee paid at the Retail Counter will increase to $18.00 per application and the enrollment fee paid online will increase to $16.50 per application. The price of the weekly reshipment charge will increase to $18.00.

USPS Package Intercept

The USPS Package Intercept™ fee will increase 5.7 percent to $12.15.

Pickup on Demand Service

The Pickup on Demand ® service daily fee will remain at $20.00.

Recipient Services

Post Office Box Service

The competitive Post Office Box™ service prices will increase an average of 3.5 percent within the existing price groups.

Resources

The Postal Service provides additional resources to assist customers with this price change for competitive products. These tools include price lists, downloadable price files, and Federal Register Notices, which may be found on the Postal Explorer Web site at pe.usps.com.

List of Subjects in 39 CFR Part 111

Administrative practice and procedure, Postal Service.

The Postal Service adopts the following changes to Mailing Standards of the United States Postal Service, Domestic Mail Manual (DMM), incorporated by reference in the Code of Federal Regulations. See 39 CFR 111.1.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

* * * * *

Mailing Standards of the United States Postal Service, Domestic Mail Manual (DMM)

* * * * *

200 Commercial Letters, Cards, Flats, and Parcels

* * * * *

280 First-Class Package Service

283 Prices and Eligibility

1.0 Price and Fees for First-Class Package Service

* * * * *

1.5 Surcharge

[Revise the text of 1.5 as follows:]

Unless prepared in 5-digit/scheme containers, a surcharge applies for Commercial Base parcels that are irregularly shaped, such as rolls, tubes, and triangles.

* * * * *

500 Additional Mailing Services

* * * * *

505 Return Services

* * * * *

6.0 Parcel Return Service-Full Network

[Delete 505.6.0 in its entirety. Renumber 7.0, Bulk Parcel Return Service, as 6.0.]

* * * * *

We will publish an appropriate amendment to 39 CFR part 111 to reflect these changes.

Stanley F. Mires,
Attorney, Federal Requirements.

[FR Doc. 2015-02008 Filed 2-2-15; 8:45 am]

BILLING CODE 7710-12-P